DEPARTMENT OF COMMERCE

National Oceanic and Atmospheric Administration

RIN 0648-XV44

Marine Mammals; File No. 15128

AGENCY: National Marine Fisheries Service (NMFS), National Oceanic and Atmospheric Administration (NOAA), Commerce.

ACTION: Notice; issuance of permit.

SUMMARY: Notice is hereby given that Robert Pilley, Leighside, Bridge Road, Leighwoods, Bristol, BS8 3PB, United Kingdom, has been issued a permit to conduct commercial/educational photography.

ADDRESSES: The permit and related documents are available for review upon written request or by appointment in the following offices:

Permits, Conservation and Education Division, Office of Protected Resources, NMFS, 1315 East-West Highway, Room 13705, Silver Spring, MD 20910; phone (301) 713-2289; fax (301) 713-0376; and

Southeast Region, NMFS, 263 13th Avenue South, Saint Petersburg, Florida 33701; phone (727) 824-5312; fax (727) 824-5309.

FOR FURTHER INFORMATION CONTACT: Amy Hapeman or Carrie Hubard, (301) 713-2289.

SUPPLEMENTARY INFORMATION: On November 18, 2009, notice was published in the Federal Register (74 FR 59524) that a request for a commercial/educational photography permit to take bottlenose dolphins (Tursiops truncatus) had been submitted by the above-named individual. The requested permit has been issued under the authority of the Marine Mammal Protection Act of 1972, as amended (16 U.S.C. 1361 et seq.) and the regulations governing the taking and importing of marine mammals (50 CFR part 216).

Mr. Pilley is authorized to film bottlenose dolphin strand feeding events in the estuaries and creeks of Bull Creek and around Hilton Head, SC. Filmmakers may use four filming platforms: a static remotely operated camera placed on the mudflats, a radio-controlled camera helicopter, a radio-controlled camera glider, and a radio-controlled camera boat. Up to 112 dolphins annually may be approached and filmed. Footage will be used to create a 6-part television series, “Earthflight,” for the British Broadcasting Corporation and Discovery Channel. The premise of the series is to follow migratory bird species around the world, with a bird's-eye perspective. The permit will expire December 31, 2011.

In compliance with the National Environmental Policy Act of 1969 (42 U.S.C. 4321 et seq.), a final determination has been made that the activity proposed is categorically excluded from the requirement to prepare an environmental assessment or environmental impact statement.

Dated: March 19, 2010.
P. Michael Payne,
Chief, Permits, Conservation and Education Division, Office of Protected Resources, National Marine Fisheries Service.

[FR Doc. 2010-6647 Filed 3-24-10; 8:45 am]

BILLING CODE 3510-22-S